SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 20, 2006.

ADDRESSES: Send all comments regarding whether this information collection is necessary for the proper performance of the function of the agency, whether the burden estimates are accurate, and if there are ways to minimize the estimated burden and enhance the quality of the collection, to Pam Swilling, Program Review Analyst, Office of Surety Guarantee, Small Business Administration, 409 3rd Street, SW., 8th Floor, Washington, DC 20416.

FOR FURTHER INFORMATION CONTACT: Pam Swilling, Program Review Analyst, Office of Surety Guarantee 202-205-6546 pam.swilling@sba.gov or Curtis B. Rich, Management Analyst, 202-205-7030 curtis.rich@sba.gov.

SUPPLEMENTARY INFORMATION: Title: “Surety Bond Guarantee Assistance”.

Description of Respondents: Small Business Contractors Applying for the Surety Bond Guarantee Program.

Form Nos: 990, 991, 994, 994B, 994C, 994F, 994H.

Annual Responses: 31,113.

Annual Burden: 15,071.

ADDRESSES: Send all comments regarding whether this information collection is necessary for the proper performance of the function of the agency, whether the burden estimates are accurate, and if there are ways to minimize the estimated burden and enhance the quality of the collection, to David Caulfield, Senior Program Analyst, Office of HUBZone Empowerment Contracting, Small Business Administration, 409 3rd Street, SW., 8th Floor, Washington, DC 20416

FOR FURTHER INFORMATION CONTACT: David Caulfield, Senior Program Analyst, Office of Surety Guarantee 202-205-6457 david.caulfield@sba.gov or Curtis B. Rich, Management Analyst, 202-205-7030 curtis.rich@sba.gov.

SUPPLEMENTARY INFORMATION:

Title: “HUBZone Application Data Update”.

Description of Respondents: Small Business Concerns.

Form No: N/A.

Annual Responses: 6,000.

Annual Burden: 3,000.

Jacqueline White,
Chief, Administrative Information Branch.

[FR Doc. 06-7786 Filed 9-19-06; 8:45 am]

BILLING CODE 8025-01-P